DEPARTMENT OF THE TREASURY

Financial Crimes Enforcement Network

Proposed Collection; Comment Request; Money Services Business Survey

AGENCY: Financial Crimes Enforcement Network (“FinCEN”), Treasury.

ACTION: Notice and request for comments.

SUMMARY: The Department of the Treasury, Financial Crimes Enforcement Network (“FinCEN”), requires current information regarding the size, extent, income derived by and nature of the Money Services Business (“MSB”) industry to more effectively regulate and inform MSBs about Bank Secrecy Act regulations that include requiring MSBs to register with FinCEN and to file Suspicious Activity Reports. FinCEN places a high priority on effective and broad-reaching initiatives to facilitate the education of MSBs and their agents in their responsibilities under the Bank Secrecy Act. FinCEN proposes to conduct a survey that is intended to provide data that can be used to update the 1997 Coopers & Lybrand study of the MSB industry to determine the current profile or make up of this industry and to include issuers, sellers and redeemers of stored value (which were not included in the 1997 Coopers & Lybrand study). The survey will consist of questions that will enable the contractor to provide a statistical estimate of the size and other business characteristics for the following 5 MSB industry sectors: (1) Check cashers, (2) currency dealers or exchangers (limited to those that exchange or deal in actual legal tender such as bank notes and coins), (3) issuers of money orders, traveler's checks or stored value, (4) sellers or redeemers of money orders, traveler's checks or stored value, and (5) money transmitters. Other goals of this study are: To identify the extent to which such financial services, which are not their primary business, are currently being offered through businesses, and to identify the percentage of income generated by these financial services activities; to determine how many of each of these MSBs are currently within the United States as well as their geographical distribution; to analyze, by state or other geographic grouping, and by type of business, differences in the number of MSBs currently registered as compared to the number, size and geographic distribution of the MSB industry segments identified in the study; to determine the extent to which MSBs are predominantly or primarily engaged in providing financial services as opposed to those in which these services are ancillary to their chief purposes as convenience or other retail stores. This request for comments is being made pursuant to the Paperwork Reduction Act of 1995, Public Law 104-13, 44 U.S.C. 3506(c)(2)(A).

DATES: Written comments are welcome and must be received on or before February 25, 2005.

ADDRESSES: Written comments should be submitted to: Office of Chief Counsel, Financial Crimes Enforcement Network, Department of the Treasury, P.O. Box 39, Vienna, Virginia 22183, Attention: PRA Comments—MSB Survey. Comments also may be submitted by electronic mail to the following Internet address: regcomments@fincen.treas.gov, with a caption in the body of the text, “Attention: PRA Comments—MSB Survey.”

Inspection of comments. Comments may be inspected, between 10 a.m. and 4 p.m., in the FinCEN reading room in Washington, DC. Persons wishing to inspect the comments submitted must request an appointment by telephoning (202) 354-6400.

FOR FURTHER INFORMATION CONTACT: Requests for additional information or requests for copies of the questions for the new MSB industry survey that is the subject of this notice should be directed to: Anna Fotias, Senior Regulatory Compliance Specialist, Office of Regulatory Policy, FinCEN, at (202) 354-6400; Christine Del Toro, Attorney-Advisor, FinCEN, at (703) 905-3590.

SUPPLEMENTARY INFORMATION: Title: Money Services Business Program Response.

OMB Number: 1506-xxxx.

Abstract: Survey to be conducted with business owners and managers in the Money Services Business industry. Survey asks respondents to report on financial services provided by their businesses.

Type of Review: New information collection.

Affected Public: Business or other for-profit institutions.

Frequency: One time.

Estimated Burden: Reporting average of 15 minutes per response.

Estimated Number of Respondents: 24,000.

Estimated Total Responses: 24,000.

Estimated Total Annual Burden Hours: 6,000.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected: (d) ways to minimize the burden of the collection of information on respondents, including through the use of automated collection techniques or other forms of information technology; and (e) estimates of capital or start-up costs and costs of operation, maintenance and purchase of services to provide information.

Dated: December 15, 2004.
William J. Fox,
Director, Financial Crimes Enforcement Network.

[FR Doc. 04-28147 Filed 12-23-04; 8:45 am]

BILLING CODE 4810-02-P